DEPARTMENT OF TRANSPORTATION

Federal Aviation Administration

14 CFR Part 39

[Docket No. 2002-NM-244-AD; Amendment 39-14116; AD 2005-11-14]

RIN 2120-AA64

Airworthiness Directives; Dassault Model Mystere-Falcon 50 and 900 Series Airplanes, and Model Falcon 2000 and 900EX Series Airplanes

AGENCY: Federal Aviation Administration, DOT.

ACTION: Final rule.

SUMMARY: This amendment adopts a new airworthiness directive (AD), applicable to certain Dassault Model Mystere-Falcon 50 and 900 series airplanes, and Model Falcon 2000 and 900EX series airplanes. This proposal requires temporary changes to the Airplane Flight Manual to prohibit the use of certain functions depending on whether or not the operator chooses to deactivate the global positioning system (GPS). For airplanes on which the GPS is deactivated, this proposal requires installing a deactivation locking collar on certain circuit breakers. For certain airplanes, this proposal also requires modifying the wiring of the global positioning/inertial reference system. This action is necessary to prevent the erroneous cockpit display of ground speed, wind velocity and direction, flight path angle, and true track angle when using certain autopilot and/or flight management system functions. Erroneous cockpit displays could cause the pilot to lose situational awareness, and possibly lose control of the airplane. This action is intended to address the identified unsafe condition.

DATES: Effective July 13, 2005.

The incorporation by reference of certain publications listed in the regulations is approved by the Director of the Federal Register as of July 13, 2005.

ADDRESSES: The service information referenced in this AD may be obtained from Dassault Falcon Jet, P.O. Box 2000, South Hackensack, New Jersey 07606.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION: A proposal to amend part 39 of the Federal Aviation Regulations (14 CFR part 39) to include an airworthiness directive (AD) that is applicable to certain Dassault Model Mystere-Falcon 50 and 900 series airplanes, and Model Falcon 2000 and 900EX series airplanes, was published in the Federal Register on April 27, 2004 (69 FR 22745). That action proposed to require temporary changes to the Airplane Flight Manual (AFM) to prohibit the use of certain functions depending on whether or not the operator chooses to deactivate the global positioning system (GPS). For airplanes on which the GPS is deactivated, that action proposed to require installing a deactivation locking collar on certain circuit breakers. For certain airplanes, that action proposed to require modifying the wiring of the global positioning/inertial reference system (GP/IRS).

Comments

Interested persons have been afforded an opportunity to participate in the making of this amendment. Due consideration has been given to the comments received.

Request To Change Applicability

One commenter, an airplane operator, requests that the proposed applicability be changed to exclude airplanes that are equipped with Universal Navigation (UNS-1C) flight management systems with self-contained GPS. The commenter points out that airplanes with UNS-1C do not display the unsafe condition identified in the proposal. The commenter states that it is not clear in the proposal whether or not the applicability includes airplanes with UNS-1C.

We do not agree with the commenter. The airplane manufacturer advises that airplanes may have been delivered with the UNS-1C system installed, but states that there is no assurance that these airplanes have not since been modified into a condition that will exhibit the unsafe condition. The manufacturer has addressed this issue in the service bulletins listed in the proposal. In addition, the applicability statement already specifies that the proposal applies only to airplanes that are equipped with the subject Gp/IRS, and specifies the GP/IRS by part number. We have not changed the final rule for this issue.

Request To Revise the Proposal To Account for Airplanes Equipped With Different Avionics

Another commenter, an avionics manufacturer, requests that the proposal be revised to account for airplanes that are not equipped with the subject GP/IRS, but are instead equipped with different avionics. The commenter points out that airplanes equipped with the different avionics have a different GPS. The commenter wishes to avoid loss of function by operators of Falcon airplanes that are equipped with the different avionics.

We disagree with the request to revise the proposal. The applicability statement already specifies that the proposal applies only to airplanes that are equipped with the subject GP/IRS, and specifies the GP/IRS by part number. Therefore, the proposal does not apply to airplanes equipped with the different avionics that have a different GPS. In addition, the commenter provides various edits to the preamble of the proposal, but does not suggest any substantive changes to the body of the AD or provide data to support its position. The preamble contains information that is not usually carried over to the final rule. We have not changed the final rule in this regard.

Request To Remove “Interim Action” Paragraph

The same commenter requests that we remove the paragraph titled “Interim Action” in the proposal. The commenter states that there is an interim step in the proposal, which is the option to pull the GPS circuit breakers or to fly with a navigational restriction. The commenter further states, however, that the proposal also provides the terminating action of a wiring modification, which cancels both the option of pulling the GPS circuit breakers and the navigational restrictions. In the commenter's opinion, this wiring modification represents the final action in the proposal.

We agree with the commenter that the proposal is not interim action. The actions described in paragraphs (c) and (d) of the proposal are terminating action for the pulled GPS circuit breakers and the navigational restrictions. We have removed the “Interim Action” paragraph from the final rule.

Request To Clarify Statement of Unsafe Condition

One commenter, the airplane manufacturer, requests that we clarify the statement of the unsafe condition. This statement is located above paragraph (a) and in the “Summary” paragraph of the proposal. The commenter states that the unsafe condition, as worded in the proposed AD, does not have enough detailed information to be clear and accurate for readers.

We agree with the commenter. The revisions to the statement, provided by the commenter, clarify the unsafe condition. Therefore, we have revised the statement in the final rule to incorporate the commenter's suggestions.

Request To Revise Service Bulletin Dates

One commenter, the airplane manufacturer, notes that the dates on some of the referenced service bulletins are incorrect. The commenter states that all service bulletins should be dated October 29, 2003.

We agree that the proposal should have the correct dates for all service bulletins. We examined the copies of the service bulletins that we had when we wrote the proposal, and found that four are dated October 15, 2003. We discussed this discrepancy with the commenter and determined that the service bulletins dated October 15, 2003, are review copies that were sent to the FAA and to the Direction Générale de l'Aviation Civile (DGAC) for concurrence. We requested that the commenter provide us with copies of the four service bulletins, dated October 29, 2003, and found that the procedures in the four service bulletins dated October 29, 2003, are virtually identical to those dated October 15, 2003. As listed in the following table, the October 15 service bulletins and the October 29 service bulletins have the same revision level.

Service Bulletin Dates and Revision Levels
Dassault service bulletin | Review copy date | Final copy date | Revision level
F900-318 | October 15, 2003 | October 29, 2003 | 1.
F900-324 | October 15, 2003 | October 29, 2003 | Original.
F900EX-190 | October 15, 2003 | October 29, 2003 | Original.
F2000-285 | October 15, 2003 | October 29, 2003 | Original.

The manufacturer assures us that no members of the public received review copies of the service bulletins, dated October 15, 2003. Therefore, we have changed the final rule to reference the October 29, 2003, final versions of the service bulletins as the acceptable source of service information for the applicable actions in the final rule.

Request To Revise Paragraph (d) To Include Terminating Action for Certain Airplanes

One commenter, the airplane manufacturer, does not agree with paragraph (c) of the proposal. The commenter, the airplane manufacturer, states that deactivating the GPS is not the specific terminating action for the F2000 airplane with head-up display (HUD), or for the Falcon 50 airplane. The commenter requests that we revise paragraph (d) to reflect the appropriate terminating action for these airplanes; this terminating action is either following the navigational restrictions or deactivating the GPS.

We partially agree with the commenter. We agree that the language of proposed paragraph (c) is misleading because it states that deactivating the GPS is the only terminating action for these airplanes. However, we do not agree with the recommendation to revise paragraph (d) to reflect the appropriate information. We have determined that paragraph (b) is the appropriate place to put the requested change. Paragraph (b) of the proposal requires that operators revise the limitations section of the AFM to allow either following the navigational restrictions or deactivating the GPS. Also, we realize that an MF50 service bulletin (Falcon 50 Service Bulletin F50-416, dated October 29, 2003) was referenced in the proposal as being required for the mandatory wiring modification. This was an error, as that action is not mandatory for the MF50, and also is not consistent with the French airworthiness directive. Therefore, we have revised Table 2 in paragraph (a)(2) to remove the reference to Falcon 50 Service Bulletin F50-416, dated October 29, 2003; and paragraphs (b)(3) and (b)(4) of the final rule to reflect the appropriate terminating action and include the commenter's requested change.

Request To Clarify Compliance Time in Paragraph (c)

The same commenter notes that the “prior to further flight” statement in paragraph (c) of the proposal does not correspond with the seven-day compliance time for revising the AFM that is required by paragraph (b) of the proposal. The commenter further notes that the seven-day compliance time is referenced in the paragraph titled “Differences Between French Airworthiness Directive and This Proposed AD.”

From this comment we infer that the compliance time for paragraph (c) is unclear. Paragraph (b) of the proposal requires that operators revise the AFM within seven days after the effective date of the AD, and, thereafter, to operate the airplane within the limitations specified by the AFM revision. For some airplanes, one of those limitations is to deactivate the GPS. The opening sentence of paragraph (c) of the proposal states, “For airplanes on which the GPS is deactivated in accordance with the applicable temporary change (TC) specified in paragraph (b) of this AD: Prior to further flight, install a deactivation locking collar * * *.” The purpose of paragraph (c) is to ensure that operators who deactivate the GPS in accordance with the AFM limitations referenced in paragraph (b) of the proposal will install a locking collar prior to further flight after deactivating the GPS. The AFM revision is required within seven days after the effective date of the proposal, therefore the limitations in the AFM (including deactivating the GPS) are not required until seven days after the effective date of the final rule. To ensure that this compliance time is clear, we have changed paragraph (c) of the final rule to state, “Prior to further flight after deactivating the GPS.”

Conclusion

After careful review of the available data, including the comments noted above, the FAA has determined that air safety and the public interest require the adoption of the rule with the changes described previously. The FAA has determined that these changes will neither increase the economic burden on any operator nor increase the scope of the AD.

Cost Impact

The FAA estimates that 543 airplanes of U.S. registry will be affected by this AD, that it will take approximately 1 work hour per airplane to accomplish the TCs to the AFM, and that the average labor rate is $65 per work hour. Based on these figures, the cost impact of the AD on U.S. operators is estimated to be $35,295, or $65 per airplane.

For airplanes that require the wiring modification required by this AD, we estimate that it will take approximately 2 work hours per airplane to accomplish the modification. Based on these figures, the cost impact of this action on U.S. operators is estimated to be $130 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2005-11-140 Dassault Aviation: Amendment 39-14116. Docket 2002-NM-244-AD.

Applicability: Model Mystere-Falcon 50 and Model Falcon 2000 series airplanes equipped with Global Positioning/Inertial Reference System (GP/IRS) part number (P/N) HG2001-GC02, P/N HG2001-GC03, or P/N HG2001-GD03; Model Mystere-Falcon 900 and Model Falcon 900EX series airplanes equipped with GP/IRS P/N HG2001-GC03 or P/N HG2001-GD03; except those airplanes on which one of the following has been incorporated during production: Dassault Modification M2004, M3386, or M2873; certificated in any category.

Compliance: Required as indicated, unless accomplished previously.

To prevent the erroneous cockpit display of ground speed, wind velocity and direction, flight path angle, and true track angle when using certain autopilot and/or flight management system functions; which could cause the pilot to lose situational awareness, and possibly lose control of the airplane, accomplish the following:

Service Bulletin Reference

(a) The term “service bulletin,” as used in this AD, means the Accomplishment Instructions of the following service bulletins, as applicable:

(1) For the installation specified in paragraph (c) of this AD, the applicable service bulletin in Table 1 of this AD.

Table 1.—Service Bulletins for Paragraph (c) Installation
Dassault service bulletin | Date | Model
F2000-285 | October 29, 2003 | Falcon 2000.
F900EX-190 | October 29, 2003 | Falcon 900EX.
F900-324 | October 29, 2003 | Mystere-Falcon 900.
F50-424 | October 29, 2003 | Mystere-Falcon 50

(2) For the modification specified in paragraph (d) of this AD, the applicable service bulletin in Table 2 of this AD. Although the Accomplishment Instructions of some of these service bulletins describe procedures for submitting a reporting card to the manufacturer, this AD does not require those actions.

Table 2.—Service Bulletins for Paragraph (d) Modification
Dassault service bulletin | Revision | Date | Model
F2000-273 | 1 | October 29, 2003 | Falcon 2000 equipped with head-up display (HUD).
F900EX-181 | 1 | October 29, 2003 | Falcon 900EX.
F900-318 | 1 | October 29, 2003 | Mystere-Falcon 900.

Airplane Flight Manual Revisions

(b) Within 7 days after the effective date of this AD: Revise the applicable Airplane Flight Manual (AFM) by accomplishing paragraphs (b)(1), (b)(2), (b)(3) and (b)(4) of this AD, as applicable. Thereafter, operate the airplane per the limitations specified in these AFM revisions.

(1) Revise the Limitations Section to include the information in Dassault Temporary Change (TC) 15, dated September 23, 2003, to the Dassault Mystere-Falcon 900 AFM, Document FM900C.

(2) Revise the Limitations Section to include the information in Dassault TC 57, dated September 23, 2003, to the Dassault Falcon 900EX AFM, Document DTM561.

(3) Revise the Limitations Section to include the information in Dassault TC 61, dated September 23, 2003, to the Dassault Mystere-Falcon 50 AFM, Document FM813EX. Compliance with the provisions of TC 61 constitutes terminating action for the requirements of this AD for all Mystere-Falcon 50 series airplanes.

(4) Revise the Limitations Section to include the information in Dassault TC 122, dated September 23, 2003, to the Dassault Falcon 2000 AFM, Document DTM537. Compliance with the provisions of Dassault TC 122 constitutes terminating action for the requirements of this AD for all Model Falcon 2000 series airplanes not equipped with head-up display (HUD).

Note 1: When the information in Dassault TCs 15, 57, 61, and 122 has been included in general revisions of the AFM, the TCs may be removed from the AFM, provided the relevant information in the general revision is identical to that in Dassault TCs 15, 57, 61, and 122.

Installation of Deactivation Locking Collars

(c) For airplanes on which the GPS is deactivated in accordance with the applicable TC specified in paragraph (b) of this AD: Prior to further flight after deactivating the GPS, install a deactivation locking collar on each GPS 1 and GPS 2 circuit breaker in accordance with the applicable service bulletin. This installation constitutes terminating action for the requirements of this AD for Model Falcon 2000 series airplanes that are not equipped with HUD, and for Model Mystere-Falcon 50 series airplanes.

Wiring Modification

(d) For Model Falcon 2000 series airplanes equipped with HUD; for Model Falcon 900EX series airplanes; and for Model Mystere-Falcon 900 series airplanes: Within 25 months after the effective date of this AD, modify the GP/IRS wiring in accordance with the applicable service bulletin. After this modification has been completed, the applicable TC required by paragraph (b) of this AD may be removed from the AFM.

Alternative Methods of Compliance

(e) In accordance with 14 CFR 39.19, the Manager, ANM-116, International Branch, FAA, Transport Airplane Directorate, is authorized to approve alternative methods of compliance for this AD.

Incorporation by Reference

(f) Unless otherwise specified in this AD, the actions must be done in accordance with the applicable service bulletins listed in Table 3 of this AD, and the applicable temporary changes listed in Table 4 of this AD.

Table 3.—Material Incorporated by Reference—Service Bulletins
Dassault service bulletin | Revision | Date
F2000-273 | 1 | October 29, 2003.
F2000-285 | Original | October 29, 2003.
F50-424 | Original | October 29, 2003.
F900-318 | 1 | October 29, 2003.
F900-324 | Original | October 29, 2003.
F900EX-181 | 1 | October 29, 2003.
F900EX-190 | Original | October 29, 2003.

Table 4.—Material Incorporated by Reference—Temporary Changes
Dassault temporary change | Date | Dassault airplane flight manual | Document
15 | September 23, 2003 | Mystere-Falcon 900 | FM900C.
57 | September 23, 2003 | Falcon 900EX | DTM561.
61 | September 23, 2003 | Mystere-Falcon 50 | FM813EX.
122 | September 23, 2003 | Falcon 2000 | DTM537.

This incorporation by reference was approved by the Director of the Federal Register in accordance with 5 U.S.C. 552(a) and 1 CFR part 51. To get copies of this service information, contact Dassault Falcon Jet, P.O. Box 2000, South Hackensack, New Jersey 07606. To inspect copies of this service information, go to the FAA, Transport Airplane Directorate, 1601 Lind Avenue, SW., Renton, Washington; or to the National Archives and Records Administration (NARA). For information on the availability of this material at the NARA, call (202) 741-6030, or go to http://www.archives.gov/federal_register/code_of_federal_regulations/ibr_locations.html.

Note 2: The subject of this AD is addressed in French airworthiness directive 2003-409(B), dated October 29, 2003.

Effective Date

(g) This amendment becomes effective on July 13, 2005.

Issued in Renton, Washington, on May 26, 2005.
Ali Bahrami,
Manager, Transport Airplane Directorate, Aircraft Certification Service.

[FR Doc. 05-11052 Filed 6-7-05; 8:45 am]

BILLING CODE 4910-13-P